DEPARTMENT OF HOUSING AND URBAN DEVELOPMENT

[Docket No. FR-6086-C-10]

National Standards for the Physical Inspection of Real Estate and Associated Protocols, Scoring Notice; Correction

AGENCY: Office of the Assistant Secretary for Housing—Federal Housing Commissioner, Office of the Assistant Secretary for Public and Indian Housing, U.S. Department of Housing and Urban Development (HUD).

ACTION: Notice; correction.

SUMMARY: The Department of Housing and Urban Development (HUD) is correcting a final notice entitled, “National Standards for the Physical Inspection of Real Estate and Associated Protocols, Scoring Notice” that published in the Federal Register on July 7, 2023.

DATES: Applicable January 17, 2025.

FOR FURTHER INFORMATION CONTACT: Kirby C. Kornegay Real Estate Assessment Center, Office of Public and Indian Housing, Department of Housing and Urban Development, 550 12th Street SW, Suite 200, Washington, DC 20410-4000, telephone number (202) 708-1112 (this is not a toll-free number), email NSPIRERegulations@hud.gov. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: On July 7, 2023, (88 FR 43371), HUD published a final notice establishing the physical inspection scoring and ranking methodology to implement HUD's National Standards for the Physical Inspection of Real Estate (NSPIRE) rule for Public Housing and Multifamily Housing programs, including Section 8 Project-Based Rental Assistance (PBRA) and other Multifamily assisted housing, Section 202/811 programs, and HUD-insured Multifamily as described in the NSPIRE rule. HUD provided the model used to calculate inspection sample sizes and calculated the sample size for every possible population of units by applying the model. In reviewing the July 7, 2023, final notice, HUD identified two inadvertent errors in Table 9 in Section V entitled, “Number of Units Sampled Under NSPIRE Scoring and Sampling Methodology Based on Property Size.” Specifically, the rows listing number of units in the property in the following two rows are in error.

Units in property | UPCS sample | NSPIRE sample
111-132 | 22-23 | 26
133-166 | 23-24 | 27

HUD is correcting the error so that these rows read as follows:

Units in property | UPCS sample | NSPIRE sample
111-133 | 22-23 | 26
134-166 | 23-24 | 27

The UPCS and NSPIRE sample sizes are unchanged.

For the convenience of the public, HUD is correcting this error by republishing Table 9 in its entirety.

Correction

In the Federal Register of July 7, 2023, in FR Doc. 2023-14362, on pages 43379-43380, replace Table 9 titled, “Number of Units Sampled Under NSPIRE Scoring and Sampling Methodology Based on Property Size” with the following:

Table 9—Number of Units Sampled Under NSPIRE Scoring and Sampling Methodology Based on Property Size
Units in property | UPCS sample | NSPIRE sample
1 | 1 | 1
2 | 2 | 2
3 | 3 | 3
4 | 4 | 4
5 | 5 | 5
6 | 5 | 6
7 | 6 | 6
8 | 7 | 7
9 | 7 | 8
10 | 8 | 8
11-12 | 8 | 9
13-14 | 9 | 10
15-16 | 10 | 11
17-18 | 11 | 12
19-21 | 12 | 13
22-24 | 13 | 14
25-27 | 14 | 15
28-30 | 14 | 16
31-35 | 15 | 17
36-39 | 16 | 18
40-45 | 17 | 19
46-51 | 18 | 20
52-59 | 18 | 21
60-67 | 19 | 22
68-78 | 20 | 23
79-92 | 21 | 24
93-110 | 21-22 | 25
111-133 | 22-23 | 26
134-166 | 23-24 | 27
167-214 | 24-25 | 28
215-295 | 25 | 29
296-455 | 25-26 | 30
456-920 | 26 | 31
921+ | 27 | 32

Aaron Santa Anna,
Associate General Counsel, Office of Legislation and Regulations.

[FR Doc. 2025-01116 Filed 1-16-25; 8:45 am]

BILLING CODE 4210-67-P